DEPARTMENT OF TRANSPORTATION

Surface Transportation Board

[STB Finance Docket No. 34668]

Keokuk Junction Railway Co.—Temporary Trackage Rights Exemption—BNSF Railway Company

BNSF Railway Company (BNSF) has agreed to grant temporary overhead trackage rights to Keokuk Junction Railway Co. (KJRY) over BNSF's lines between Blair Junction, IL (Beardstown Subdivision milepost 157.1), and Bushnell, IL (Brookfield Subdivision milepost 191.5), a distance of approximately 3.5 miles.

The transaction was scheduled to be consummated on March 18, 2005, and the temporary trackage rights will expire on or before March 17, 2006. The purpose of the temporary trackage rights is to allow KJRY to bridge its trains between Blair Junction and a point just to the east of Bushnell until the diamond crossings at Bushnell are restored.¹

¹ The Board ordered the restoration of the diamond crossings in Keokuk Junction Railway Company—Feeder Line Acquisition—Line of Toledo, Peoria and Western Railway Corporation Between La Harpe and Hollis, IL, STB Finance Docket No. 34335 (STB served Feb. 7, 2005).

As a condition to this exemption, any employees affected by the acquisition of the temporary trackage rights will be protected by the conditions imposed in Norfolk and Western Ry. Co.—Trackage Rights—BN, 354 I.C.C. 605 (1978), as modified in Mendocino Coast Ry., Inc.—Lease and Operate, 360 I.C.C. 653 (1980), and any employee affected by the discontinuance of those trackage rights will be protected by the conditions set out in Oregon Short Line R. Co.—Abandonment—Goshen, 360 I.C.C.91 (1979).

This notice is filed under 49 CFR 1180.2(d)(8). If it contains false or misleading information, the exemption is void ab initio. Petitions to revoke the exemption under 49 U.S.C. 10502(d) may be filed at any time. The filing of a petition to revoke will not automatically stay the transaction.

An original and 10 copies of all pleadings, referring to STB Finance Docket No. 34668, must be filed with the Surface Transportation Board, 1925 K Street, NW., Washington, DC 20423-0001. In addition, a copy of each pleading must be served on Daniel A. LaKemper, Keokuk Junction Railway Co., 1318 S. Johanson Road, Peoria, IL 61607.

Board decisions and notices are available on our Web site at http://www.stb.dot.gov.

Decided: March 22, 2005.
By the Board, David M. Konschnik, Director, Office of Proceedings.
Vernon A. Williams,
Secretary.

[FR Doc. 05-6025 Filed 3-28-05; 8:45 am]

BILLING CODE 4915-01-P